DEPARTMENT OF COMMERCE

National Oceanic and Atmospheric Administration

RIN 0648-XF242

New England Fishery Management Council (NEFMC); Public Meeting

AGENCY: National Marine Fisheries Service (NMFS), National Oceanic and Atmospheric Administration (NOAA), Commerce.

ACTION: Notice; public meeting.

SUMMARY: The New England Fishery Management Council (Council) is scheduling a public meeting of its NEFMC External Peer Review Management Strategy Evaluation of Atlantic Herring Acceptable Biological Catch Control Rules from to consider actions affecting New England fisheries in the exclusive economic zone (EEZ). Recommendations from this group will be brought to the full Council for formal consideration and action, if appropriate.

DATES: This meeting will be held on Monday, March 13, 2017 through Wednesday, March 15 starting at 9 a.m. all three days.

ADDRESSES: The meeting will be held at the Embassy Suites, Boston Logan Airport, 207 Porter Street, Boston, MA 02128: (617) 657-5000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The New England Fishery Management Council (Council) is conducting a peer review of the Management Strategy Evaluation (MSE) of Atlantic Herring Acceptable Biological Catch (ABC) Control Rules. Atlantic herring, predators, and economic models were developed to evaluate control rules and performance metrics. Experts have been invited by the Council to evaluate the MSE methods, data, and results. The panel will evaluate whether the MSE is sufficient for the Council to use when identifying and analyzing a range of ABC control rule alternatives in Amendment 8 to the Atlantic Herring Fishery Management Plan. This public meeting will have designated times on the agenda when public comment is welcome.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: February 21, 2017.
Tracey L. Thompson,
Acting Deputy Director, Office of Sustainable Fisheries, National Marine Fisheries Service.

[FR Doc. 2017-03642 Filed 2-23-17; 8:45 am]

BILLING CODE 3510-22-P